NATIONAL SCIENCE FOUNDATION

Notice of Permit Applications Received Under the Antarctic Conservation Act of 1978 (Pub. L. 95-541)

AGENCY: National Science Foundation.

ACTION: Notice of Permit Applications Received under the Antarctic Conservation Act of 1978, Pub. L. 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by October 19, 2006. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Dr. Polly A. Penhale at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas requiring special protection. The regulations establish such a permit system to designate Antarctic Specially Protected Areas.

The applications received are as follows:

1. Applicant: Charles D. Amsler, Jr. (Permit Application No. 2007-002), Department of Biology, University of Alabama, Birmingham, AL 35294-1170.

Activity for Which Permit is Requested: Introduce a non-indigenous species into Antarctica, and import into the U.S.A. The applicant plans to return cultures, collected in Antarctica, of filamentous macroalgae and diatoms to Antarctica for use in feeding bioassays. The amphipods are offered algae from culture and extractor bioassays where the effects of secondary metabolites extracted from large macroalgae are measured onalgae from culture. These cultures will be autoclaved at the conclusion of the field season. The applicant also plans to collect filamentous brown algal endophytes for return to the U.S. for identification and additional extract bioassays. They will be maintained in culture at the University of Alabama, Birmingham.

Location: Palmer Station, Antarctica.

Dates: January 1, 2007 to July 31, 2008.

2. Applicant: Rennie S. Holt (Permit Application No. 2007-003), Director, AMLR Program, Southwest Fisheries Science Center, National Marine Fisheries Service, 8604 La Jolla Shores Drive, La Jolla, CA 92038.

Activity for Which Permit is Requested: Take, Enter Antarctic Specially Protected Area, and Import into the U.S. The applicant plans to census and capture up to 600 pup, 50 juvenile and 60 adult Antarctic fur seals, and 20 leopard seals for the purpose of tagging, instrumentation, extraction of blood, and milk samples. The samples collected will further the study of attendance, diving, foraging, diet, age determination, pathology and long-term monitoring of Leopard and Antarctic fur seals at Cape Shirreff Antarctic Specially Protected Area. In addition the applicant plans to capture, band and release up to 1500 Chinstrap penguins, 500 Gentoo penguins, 100 Cape Petrels, Giant Petrels, Sheathbills, and Kelp gulls, 200 South Polar Skuas and Brown Skuas, and Blue Eyed Shags. The applicant plans to salvage carcasses and bones of dead animals found on the beach. Collected samples and dead specimens will be returned to the U.S. for further study.

Location: Cape Shirreff, Livingston Island (ASMA #149) (including San Telmo Islands), Seal Island, and King George Island.

Dates: November 1, 2006 to April 30, 2011.

3. Applicant: Bruce D. Sidell, (Permit Application No. 2007-007), School of Marine Sciences, University of Maine, Orono, MA 04469-5751.

Activity for Which Permit is Requested: Take, Introduce Non-indigenous Species into Antarctica, and Enter Antarctic Specially Protected Area. The applicant proposes to use frozen fish bait (M. magellanicus and D. eleginoides), purchased in Chile, in frozen 10-15 kg blocks for use in fish traps/pots to capture Antarctic fishes for physiology and biochemistry studies.

Location: Western Bransfield Strait (ASPA #152) and East Dallman Bay (ASPA #153).

Dates: April 1, 2007 to June 30, 2007.

4. Applicant: Brenda Hall (Permit Application No. 2007-009), Climate Change Institute, University of Maine, Orono, ME 04469.

Activity for Which Permit is Requested: Enter Antarctic Specially Protected Area. The applicant proposes to enter the New College Valley, Cape Bird Specially Protected Area (ASPA #116) to dig small (<1 m) pits and excavate seal hair/skin and, if present, penguin bones. Pits will be backfilled and surface material replaced. By examining abandoned colonies, the applicant can reconstruct the seal and penguin populations over time and identify when these animals were not present in the Ross Sea area. It has been determined that elephant seals had used the Scott Coast but heavy ice conditions caused them to shift locations. The applicant wishes to search the Cape Bird area for elephant seals remains. The excavated samples will help to determine if elephant seals had previously occupied Cape Bird.

Location: New College Valley, Cape Bird (ASPA #116), Ross Island.

Dates: December 20, 2006 to February 20, 2007.

5. Applicant: Robert A. Blanchette, (Permit Application No. 2007-010), 495 Borlaug Hall, 991 Upper Buford Circle, University of Minnesota, St. Paul, MN 55018-6030.

Activity for Which Permit is Requested: Enter Antarctic Specially Protected Areas. The applicant proposes enter historic sites to investigate the biological and non-biological deterioration processes to help develop conservation plans to preserve important historic structures and artifacts in Antarctica. Sampling of wood, soil, and other organic materials will be done to assess and characterize microbial populations at the various sites.

Location: Historic huts of the Ross Sea: Discovery Hut (ASPA 157); Cape Evans (ASPA 154); Cape Royds (ASPA 156); and, Cape Adare. Peninsula historic artifacts at Deception Island, Livingston Island, East Base ND E Station at Stonington Island, Port Lockroy, Wordie House (Faraday), Detaille Island, Horseshoe Island and Blaiklock Island.

Dates: September 1, 2006 to September 30, 2009.

6. Applicant: Same Feola, (Permit Application No. 2007-015), Program Director, Raytheon Polar Service Company, 7400 S. Tuscon Way, Centennial, CO 80112.

Activity for Which Permit is Requested: Enter Antarctic Specially Protected Areas. The applicant proposes that it's two chartered vessels, Nathaniel B. Palmer and Laurence M. Gould, will transit, when necessary, through the following Marine Specially Protected Areas: Port Foster, Deception Island (ASPA 145), Western Bransfield Strait (ASPA 152), and East Dallman Bay (ASPA 153). Transit through these areas are for scientific purposes and the sites will be avoided whenever possible.

Location: Port Foster, Deception Island (ASPA 145), Western Bransfield Strait (ASPA 152), and East Dallman Bay (ASPA 153).

Dates: September 1, 2006 to September 30, 2011.

Nadene G. Kennedy,
Permit Officer, Office of Polar Programs.

[FR Doc. 06-7740 Filed 9-18-06; 8:45 am]

BILLING CODE 7555-01-M